DEPARTMENT OF THE INTERIOR

Fish and Wildlife Service

Bond Swamp National Wildlife Refuge

AGENCY: Fish and Wildlife Service, Interior.

ACTION: Notice of intent to prepare a comprehensive conservation plan and environmental assessment for Bond Swamp National Wildlife Refuge in Bibb and Twiggs Counties, Georgia.

SUMMARY: The Fish and Wildlife Service intends to gather information necessary to prepare a comprehensive conservation plan and environmental assessment for Bond Swamp National Wildlife Refuge. This notice is furnished in compliance with the Service's comprehensive conservation planning policy to advise other agencies and the public of our intentions, and to obtain suggestions and information on the scope of issues to be considered in the planning process.

DATES: To ensure consideration, comments must be received by July 16, 2007.

ADDRESSES: Address comments, questions, and requests for more information to Carolyn Johnson, Deputy Project Leader, Piedmont National Wildlife Refuge, 718 Juliette Road, Roundoak, Georgia 31038; Telephone: 478/986-5441; or you may correspond with Ms. Johnson via the Internet at Carolyn_Johnson@fws.gov.

SUPPLEMENTARY INFORMATION: The National Wildlife Refuge System Administration Act of 1966, as amended by the National Wildlife Refuge System Improvement Act of 1997 (16 U.S.C. 668dd-668ee), requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation. Public input into this planning process is essential.

Each unit of the National Wildlife Refuge System is established with specific purposes. These purposes are used to develop and prioritize management goals and objectives within the National Wildlife Refuge System mission, and to guide which public uses will occur on the refuge. The planning process is a means for the Service and the public to evaluate management goals and objectives for the best possible conservation efforts of this important wildlife habitat, while providing for wildlife-dependent recreation opportunities that are compatible with the refuge's establishing purposes and the mission of the National Wildlife Refuge System.

A comprehensive conservation planning process will be conducted that will provide opportunities for Tribal, State, and local governments; agencies; organizations; and the public to participate in issue scoping and public comment. The Service invites anyone interested to respond to the following questions:

1. What problems or issues do you want to see addressed in the comprehensive conservation plan?

2. What improvements would you recommend for the Bond Swamp National Wildlife Refuge?

The above questions have been provided for your optional use. You are not required to provide any information. The Planning Team developed these questions to gather information about individual issues and ideas concerning the refuge. The Planning Team will use comments it receives as part of the planning process; however, it will not reference individual comments or directly respond to them.

Open house style meeting(s) will be held throughout the scoping phase of the comprehensive conservation plan development process. Special mailings, newspaper articles, and other media announcements will be used to inform the public and state and local government agencies of the opportunities for input throughout the planning process.

The environmental review of this project will be conducted in accordance with the requirements of the National Environmental Policy Act of 1969, as amended (42 U.S.C. 4321 et seq.); NEPA Regulations (40 CFR parts 1500-1508); and other appropriate Federal laws and regulations. All comments received become part of the official public record. Requests for such comments will be handled in accordance with the Freedom of Information Act and Service and Departmental policies and procedures.

Bond Swamp National Wildlife Refuge was established in 1989 to protect, maintain, and enhance the forested wetland ecosystem of the Ocmulgee River floodplain. The refuge consists of 6,500 acres situated along the fall line separating the Piedmont and Coastal Plains.

The refuge has a diversity of vegetation communities, including mixed hardwood-pine, bottomland hardwoods, tupelo gum swamp forests, creeks, tributaries, beaver swamps, and oxbow lakes. The refuge is rich in wildlife diversity, including white-tailed deer, wood ducks, black bears, alligators, wild turkey, a nesting pair of bald eagles, and excellent wintering habitat for waterfowl. Extensive bottomland hardwoods provide critical habitat for neotropical songbirds of concern, such as Swainson's warbler, wood thrush, prothonotary warbler, and yellow-billed cuckoo. The combination of warm weather and wet areas at Bond Swamp Refuge provides ideal conditions for a variety of reptile and amphibian species.

Authority: This notice is published under the authority of the National Wildlife Refuge System Improvement Act of 1997, Public Law 105-57.

Dated: February 8, 2007.
Cynthia K. Dohner,
Acting Regional Director.

Editorial Note: This document was received in the Office of the Federal Register on May 11, 2007.

[FR Doc. E7-9404 Filed 5-15-07; 8:45 am]

BILLING CODE 4310-55-P